DEPARTMENT OF TRANSPORTATION

Coast Guard

33 CFR Part 165

[COTP San Juan 00-059]

RIN 2115-AA97

Safety Zone Regulations; Guayanilla Bay, Guayanilla, Puerto Rico

AGENCY: Coast Guard, DOT.

ACTION: Temporary final rule.

SUMMARY: The Coast Guard is establishing temporary moving and fixed safety zones around Liquefied Natural Gas (LNG) Carriers with product aboard in the waters of the Caribbean Sea and Guayanilla Bay, Puerto Rico. Due to its highly volatile cargo, size, and draft, the LNG vessel will require use of the center of the channel for safe navigation. These regulations are necessary for the protection of life and property on the navigable waters of the United States.

DATES: This rule becomes effective at 1 a.m. on July 9, 2000, and terminates at midnight on December 31, 2000. All times are Atlantic Standard Time (AST).

ADDRESSES: Comments and material received from the public, as well as documents indicated in this preamble as being available in the docket, are part of docket COTP San Juan 00-059, and are available for inspection and copying at the USCG Marine Safety Office San Juan, Rodriguez and Del Valle Building, 4th Floor, Calle San Martin, Road #2, Guaynabo, Puerto Rico, between the hours of 7 a.m. to 3:30 p.m., Monday through Friday, excluding federal holidays.

FOR FURTHER INFORMATION CONTACT: Lieutenant Commander Robert Lefevers at Coast Guard Marine Safety Office San Juan, Puerto Rico, (787) 706-2444.

SUPPLEMENTARY INFORMATION:

Regulatory Information

We did not publish a Notice of Proposed Rulemaking (NPRM) for this regulation. Under 5 U.S.C. 553(b)(B), the Coast Guard finds that good cause exists for not publishing an NPRM. It was impracticable to attempt to publish a NPRM for this situation due to the uncertainty surrounding the scheduling of the first LNG ship into the EcoElectrica facility.

Under 5 U.S.C. 553(d)(3), the Coast Guard finds that good cause exists for making this rule effective less than 30 days after publication in the Federal Register because of the imminent arrival of the first LNG ship into the EcoElectrica facility. Publishing an NPRM and delaying its effective date would be contrary to public safety since immediate action is needed to minimize potential danger to the public upon arrival of the LNG carrier.

Background and Purpose

These regulations are needed to provide for the safety of life on navigable waters from hazards associated with LNG carriers. The safety zones are established because of the significant risks LNG ships present with their highly volatile cargoes, their size, and draft. A safety zone will be established in a 100 yard radius surrounding an LNG carrier with product aboard while transiting north of Latitude 17°56.0′N in the waters of the Caribbean Sea and Guayanilla Bay, Puerto Rico. This Safety Zone remains in effect until the LNG vessel is alongside the Eco-Electrica waterfront facility in Guayanilla Bay. A Safety Zone will also be established in the waters within 150 feet of an LNG vessel when the vessel is alongside the Eco-Electrica waterfront facility. This Safety Zone remains in effect while the LNG vessel remains at the dock with product aboard or is transferring liquefied natural gas.

We anticipate periodic arrivals of LNG carriers in Guayanilla Bay. Therefore, in conjunction with this temporary rule necessary for immediate arrivals, we will undertake a permanent rulemaking with opportunity for notice and comment.

Regulatory Evaluation

This rule is not a “significant regulatory action” under section 3(f) of Executive Order 12866 and does not require an assessment of potential costs and benefits under section 6(a)(3) of that order. The Office of Management and Budget has not reviewed it under that order. It is not “significant” under the regulatory policies and procedures of the Department of Transportation (DOT)(44 FR 11040, February 26, 1979). The Coast Guard expects the economic impact of this proposal to be so minimal that a full Regulatory Evaluation under paragraph 10(e) of the regulatory policies and procedures of DOT is unnecessary due to the relatively infrequent arrivals of LNG carriers and the sparse nature of commercial traffic in Guayanilla Bay.

Small Entities

Under the Regulatory Flexibility Act (5 U.S.C. 601-612), we considered whether this rule would have a significant economic effect upon a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The rule may affect the following entities, some of which may be small entities: the owners and operators of vessels intending to transit a portion of Guayanilla Bay during the entry of an LNG vessel into the bay and its subsequent docking and transfer operations at the Eco-Electrica facility. This regulation will not have a significant economic impact on a substantial number of small entities because of the infrequent LNG vessel arrivals into Guayanilla Bay and the short transit time into the bay. Vessel traffic will not be impeded while the LNG carrier is moored to the dock at the Eco-Electrica facility.

Assistance for Small Entities

Under section 213(a) of the Small Business Regulatory Enforcement Fairness Act of 1996 (Pub.L. 104-121), we want to assist small entities in understanding this rule so that they can better evaluate its effects on them and participate in the rulemaking process. If the rule would affect your small business, organization, or government jurisdiction and you have questions concerning its provisions or options for compliance, please contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501 et seq.).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this action and has determined under figure 2-1, paragraph 34(g) of Commandant Instruction M16475.1C, that this rule is categorically excluded from further environmental documentation because it is establishing a temporary Safety Zone.

List of Subjects in 33 CFR Part 165

Harbors, Marine Safety, Navigation (water), Reporting and recordkeeping requirements, Safety measures, Waterways.

For the reasons discussed in the Preamble, the Coast Guard amends 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, and 160.5;49 CFR 1.46.

2. Temporary § 165.T07-059 is added to read as follows:

§ 165.T00-059 Safety Zone; Guayanilla, Puerto Rico

(a) Regulated Area. Temporary safety zones are established during the specified conditions: (1) In a 100 yard radius surrounding a Liquefied Natural Gas (LNG) Carrier with product aboard while transiting north of Latitude 17°56.0′ N in the waters of the Caribbean Sea and Guayanilla Bay, Puerto Rico. The safety zone remains in effect until the LNG vessel is alongside the Eco-Electrica waterfront facility in Guayanilla Bay, at position 17°58.55′N, 066°45.3′W.

(2) The waters and land area within 150 feet of an LNG vessel when the vessel is alongside the Eco-Electrica waterfront facility. This safety zone remains in effect while the LNG vessel remains at the dock with product aboard or is transferring liquefied natural gas.

(b) Regulations. In accordance with the general regulations in 165.23 of this part, anchoring, mooring or transiting in these zones is prohibited unless authorized by the Coast Guard Captain of the Port.

(c) Dates. These regulations become effective at 1 a.m. Atlantic Standard Time (AST) on July 9, 2000, and expire at 11:59 p.m. AST, December 31, 2000. Notifications of LNG vessel arrivals will be made using a Broadcast Notice To Mariners on VHF Channel 16.

Dated: July 7, 2000.
J. A. Servidio,
Commander, U. S. Coast Guard, Captain of the Port, San Juan, Puerto Rico.

[FR Doc. 00-20171 Filed 8-8-00; 8:45 am]

BILLING CODE 4910-15-U